DEPARTMENT OF DEFENSE

Department of the Navy

Department of the Navy Science and Technology Board; Notice of Federal Advisory Committee Meeting

AGENCY: Department of the Navy (DoN), Department of Defense (DoD).

ACTION: Notice of Federal Advisory Committee meeting.

SUMMARY: The DoD is publishing this notice to announce that the following Federal Advisory Committee meeting of the Department of the Navy Science and Technology Board (DoN S&T Board) will take place.

DATES: An open meeting will be held on Tuesday, December 3, 2024, from 10 a.m. to 10:30 a.m. Eastern Time Zone (ET).

ADDRESSES: The Open session will be held virtually via video conference. Information for accessing the video conference will be provided after registering. (Pre-meeting registration is required. See guidance in SUPPLEMENTARY INFORMATION “Meeting Accessibility”.)

FOR FURTHER INFORMATION CONTACT: Ms. Maria Proestou, Designated Federal Officer (DFO), Office of the Assistant Secretary of the Navy (Research, Development & Acquisition), Pentagon, Washington, DC 20350-1000, 703-692-8278, don-stb@us.navy.mil.

SUPPLEMENTARY INFORMATION: This meeting is being held under the provisions of chapter 10 of title 5 U.S.C. (commonly known as the Federal Advisory Committee Act (FACA), the Government in the Sunshine Act of 1976 (5 U.S.C. 552b, as amended), title 41 Code of Federal Regulations (CFR) 102-3.140 and 102-3.150. Due to circumstances beyond the control of the Designated Federal Officer, the DoN S&T Board was unable to provide public notification required by 41 CFR 102-3.150(a) concerning its December 3, 2024 meeting. Accordingly, the Advisory Committee Management Officer for the Department of Defense, pursuant to 41 CFR 102-3.150(b), waives the 15-calendar day notification requirement.

Purpose of the Meeting: The purpose of the meeting will be for the Board to vote on two completed study topics, Electronic Warfare for Terminal Defense and Ship Maintenance.

Agenda: On December 3, 2024, the Chair of the Board will convene the open session in order to discuss and vote on forwarding two completed studies to the Board's sponsor, the Secretary of the Navy.

Availability of Materials for the Meeting: A copy of the agenda or any updates to the agenda for the meeting on December 3, 2024, as well as supporting documents, can be found on the website: https://www.secnav.navy.mil/rda/S&TBoard/Pages/default.aspx.

Meeting Accessibility: The open session will be held by videoconference. All members of the public who wish to attend must register by contacting DON S&T Board at don-stb@us.navy.mil. Once registered, the web address and/or audio number will be provided. If there are any questions or concerns, please send them to don-stb@us.navy.mil no later than November 26, 2024.

Written Statements: Pursuant to 41 CFR 102-3.105 and 102-3.140, and section 1009(a)(3) of title 5 U.S.C., written statements to the committee may be submitted at any time or in response to a stated planned meeting agenda by email to don-stb@us.navy.mil with the subject line, “Comments for DON S&T Board Meeting.”

Dated: November 22, 2024
A.J. Gioiello,
Lieutenant Commander, Judge Advocate General's Corps, U.S. Navy, Federal Register Liaison Officer.

[FR Doc. 2024-27812 Filed 11-26-24; 8:45 am]

BILLING CODE 3810-FF-P